DEPARTMENT OF TRANSPORTATION

Federal Aviation Administration

14 CFR Part 39

[Docket No. FAA-2007-27786; Directorate Identifier 2007-CE-031-AD; Amendment 39-15031; AD 2007-09-01]

RIN 2120-AA64

Airworthiness Directives; Cessna Aircraft Company Models 182H, 182J, 182K, 182L, 182M, 182N, 182P, 182Q, and 182R Airplanes

AGENCY: Federal Aviation Administration (FAA), DOT.

ACTION: Final rule; request for comments.

SUMMARY: The FAA is adopting a new airworthiness directive (AD) for certain Cessna Aircraft Company (Cessna) Model 182 series airplanes that are equipped with Air Plains Services Corporation Supplemental Type Certificate (STC) SA00152WI. This AD requires you to disconnect or remove the electrical cable between the forward ground power relay and the starter relay, install a placard, inspect the fuel line between the auxiliary electric fuel pump and the engine-driven fuel pump for chafing, and replace the fuel line if chafing is found. This AD results from a report of an in-flight and post-landing engine compartment fire. We are issuing this AD to detect and correct interference between the ground power electrical cable, the fuel strainer cable, and the fuel line between the auxiliary electric fuel pump and the engine-driven fuel pump. This condition could lead to a fire in the engine compartment.

DATES: This AD becomes effective on April 25, 2007.

On April 25, 2007 the Director of the Federal Register approved the incorporation by reference of certain publications listed in this AD.

We must receive any comments on this AD by June 19, 2007.

ADDRESSES: Use one of the following addresses to comment on this AD.

• DOT Docket Web site: Go to http://dms.dot.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: Go to http://www.regulations.gov. Follow the instructions for submitting comments.

To get the service information identified in this AD, contact Air Plains Services Corporation, P.O. Box 541, Wellington, KS 67152; phone: 620-326-8904; Internet: http://www.airplains.com.

To view the comments to this AD, go to http://dms.dot.gov. The docket number is FAA-2007-27786; Directorate Identifier 2007-CE-031-AD.

FOR FURTHER INFORMATION CONTACT: Trenton Shepherd, Aerospace Engineer, 1801 Airport Road, Room 100, Wichita, Kansas 67209; telephone: (316) 946-4143; fax: (316) 946-4107.

SUPPLEMENTARY INFORMATION:

Discussion

We received a report of a Cessna Model 182Q airplane with Air Plains Services Corporation STC SA00152WI installed that had an in-flight and post-landing fire. The preliminary finding, per the National Transportation Safety Board (NTSB), is that the electrical cable between the forward ground power relay and the starter relay chafed on either the fuel strainer control or on the fuel line between the auxiliary electric fuel pump and the engine-driven fuel pump. The cable shorted, welded the fuel strainer control cable to the firewall, and burned the fuel line between the auxiliary electric fuel pump and the engine-driven fuel pump.

This condition, if not corrected, could result in a fuel leak and fire in the engine compartment.

Relevant Service Information

We reviewed Air Plains Services Corporation Mandatory Service Bulletin APS-07-01-01, dated March 5, 2007. The service information describes procedures for the following actions:

• Disconnecting or removing the electrical cable between the forward ground power relay and the starter relay;

• Repositioning the fuel strainer cable;

• Inspecting the fuel line between the auxiliary electric fuel pump and the engine-driven fuel pump for chafing; and

• Adjusting the position of the fuel line fitting at the engine-driven fuel pump.

FAA's Determination and Requirements of This AD

We are issuing this AD because we evaluated all the information and determined the unsafe condition described previously is likely to exist or develop on other products of the same type design. This AD requires you to disconnect or remove the ground power electrical cable between the forward ground power relay and the starter relay, install a placard, inspect the fuel line between the auxiliary electric fuel pump and the engine-driven fuel pump for chafing, and replace the fuel line if chafing is found.

This AD is considered interim action. The FAA is working with the STC holder on developing a design change for the ground power electrical cable. If a modification is developed, the FAA will evaluate it and determine whether future rulemaking action is necessary to address this condition.

In preparing this rule, we contacted type clubs and aircraft operators to get technical information and information on operational and economic impacts. We did not receive any information through these contacts. If received, we would have included a discussion of any information that may have influenced this action in the rulemaking docket.

FAA's Determination of the Effective Date

Since an unsafe condition exists that requires the immediate adoption of this AD, we determined that notice and opportunity for public comment before issuing this AD are impracticable, and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2007-27786; Directorate Identifier 2007-CE-031-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2007-09-01 Cessna Aircraft Company: Amendment 39-15031; Docket No. FAA-2007-27786; Directorate Identifier 2007-CE-031-AD.

Effective Date

(a) This AD becomes effective on April 25, 2007.

Affected ADs

(b) None.

Applicability

(c) This AD applies to Models 182H, 182J, 182K, 182L, 182M, 182N, 182P, 182Q, and 182R airplanes, all serial numbers, that:

(i) Have Air Plains Services Corporation Supplemental Type Certificate (STC) SA00152WI installed;

(ii) Have a ground power receptacle mounted on the firewall (forward ground power receptacle); and

(iii) Are certificated in any category.

Unsafe Condition

(d) This AD results from a report of an in-flight and post-landing engine compartment fire. We are issuing this AD to detect and correct interference between the ground power electrical cable, the fuel strainer cable, and the fuel line between the auxiliary electric fuel pump and the engine-driven fuel pump. This condition could lead to a fire in the engine compartment.

Compliance

(e) To address this problem, you must do the following, unless already done:

Actions | Compliance | Procedures
(1) Remove power to the ground power electrical cable by: | Within 15 days after April 25, 2007 (the effective date of this AD) | Follow Air Plains Services Corporation Mandatory Service Bulletin APS-07-01-01, dated March 5, 2007. (i) Disconnecting the electrical cable at the forward ground power relay and the starter relay, or (ii) Removing the electrical cable between the forward ground power relay and the starter relay.
(2) Fabricate and install a placard as close as possible to the forward ground power receptacle that incorporates the following words (using at least 1/8-inch red letters on a white background and a red border): “GROUND POWER RECEPTACLE IS INOPERATIVE.” | Before further flight after power to the ground power cable is removed per paragraph (e)(1) of this AD | The owner/operator holding at least a private pilot certificate as authorized by section 43.7 of the Federal Aviation Regulations (14 CFR 43.7) may fabricate and install the placard. Make an entry into the aircraft records showing compliance with these portions of the AD in accordance with section 43.9 of the Federal Aviation Regulations (14 CFR 43.9).
(3) Reposition the fuel strainer cable | Within 15 days after April 25, 2007 (the effective date of this AD) | Follow Air Plains Services Corporation Mandatory Service Bulletin APS-07-01-01, dated March 5, 2007.
(4) Visually inspect the fuel line from the auxiliary electric fuel pump to the engine-driven fuel pump for chafing | Within 15 days after April 25, 2007 (the effective date of this AD) | Follow Air Plains Services Corporation Mandatory Service Bulletin APS-07-01-01, dated March 5, 2007.
(5) If chafing at or beyond the limits defined in the Air Plains Services Corporation Mandatory Service Bulletin APS-07-01-01, dated March 5, 2007, is found in the inspection required by paragraph (e)(4) of this AD, replace the fuel line between the auxiliary electric fuel pump and the engine-driven fuel pump with a new hose part number AE3663161G0190 (or FAA-approved equivalent) and remove the ground power electrical cable per (e)(1)(ii) of this AD | Before further flight after any inspection where evidence of chafing is found | Follow Air Plains Services Corporation Mandatory Service Bulletin APS-07-01-01, dated March 5, 2007.
(6) Adjust the position of the fuel line fitting at the engine-driven fuel pump | Within 15 days after April 25, 2007 (the effective date of this AD) | Follow Air Plains Services Corporation Mandatory Service Bulletin APS-07-01-01, dated March 5, 2007.

Alternative Methods of Compliance (AMOCs)

(f) The Manager, Wichita Aircraft Certification Office (ACO), FAA, ATTN: Trenton Shepherd, Aerospace Engineer, 1801 Airport Road, Room 100, Wichita, Kansas 67209; telephone: (316) 946-4143; fax: (316) 946-4107, has the authority to approve AMOCs for this AD, if requested using the procedures found in 14 CFR 39.19. Before using any approved AMOC on any airplane to which the AMOC applies, notify your appropriate principal inspector (PI) in the FAA Flight Standards District Office (FSDO), or lacking a PI, your local FSDO.

Material Incorporated by Reference

(g) You must use Air Plains Services Corporation Mandatory Service Bulletin APS-07-01-01, dated March 5, 2007, to do the actions required by this AD, unless the AD specifies otherwise.

(1) The Director of the Federal Register approved the incorporation by reference of this service information under 5 U.S.C. 552(a) and 1 CFR part 51.

(2) For service information identified in this AD, contact Air Plains Services Corporation, P.O. Box 541, Wellington, KS 67152; phone: 620-326-8904; Internet: http://www.airplains.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on April 13, 2007.
Charles L. Smalley,
Acting Manager, Small Airplane Directorate, Aircraft Certification Service.

[FR Doc. E7-7519 Filed 4-19-07; 8:45 am]

BILLING CODE 4910-13-P